DEPARTMENT OF VETERANS AFFAIRS

Public Availability of the Department of Veterans Affairs Fiscal Year (FY) 2013 Service Contract Inventory

AGENCY: Department of Veterans Affairs.

ACTION: Notice of Public Availability of FY 2013 Service Contract Inventory.

SUMMARY: In accordance with section 743 of Division C of the Consolidated Appropriations Act of 2010 (Pub. L. 111-117), the Department of Veterans Affairs (VA) is publishing this notice to advise the public of the availability of the FY 2013 Service Contract Inventory. This inventory provides information on VA service contract actions over $25,000 made in FY 2013. The information is organized by function to show how contracted resources are distributed throughout the agency. The inventory has been developed in accordance with guidance issued on November 5, 2010, and updated on December 19, 2011, by the Office of Management and Budget's Office of Federal Procurement Policy (OFPP). OFPP's guidance is available at http://www.whitehouse.gov/sites/default/files/omb/procurement/memo/service-contract-inventory-guidance.pdf. VA has posted its inventory and a summary of the inventory on the VA homepage at the following link: http://www.va.gov/oal/business/pps/scaInventory.asp.

FOR FURTHER INFORMATION CONTACT: Questions regarding the service contract inventory should be directed to Ms. Sheila Darrell, Deputy Director of Procurement Policy and Warrant Management Service, in the Office of Acquisition and Logistics (OA&L) Policy Division, Department of Veterans Affairs, at 202-632-5288 or email: sheila.darrell@va.gov.

Signing Authority

The Secretary of Veterans Affairs, or designee, approved this document and authorized the undersigned to sign and submit the document to the Office of the Federal Register for publication electronically as an official document of the Department of Veterans Affairs. Jose D. Riojas, Chief of Staff, Department of Veterans Affairs, approved this document on January 27, 2014, for publication.

Dated: March 19, 2014.
Robert C. McFetridge,
Director of Regulations Policy and Management, Office of the General Counsel, Department of Veterans Affairs.

[FR Doc. 2014-06440 Filed 3-24-14; 8:45 am]

BILLING CODE 8320-01-P